DEPARTMENT OF HEALTH AND HUMAN SERVICES

Administration for Children and Families

Office of Planning, Research and Evaluation; Grant to the Institute for Responsible Fatherhood and Family Revitalization

AGENCY: Office of Planning, Research and Evaluation, ACF, DHHS.

ACTION: Award announcement.

SUMMARY: Notice is hereby given that a noncompetitive grant award is being made to the Institute for Responsible Fatherhood and Family Revitalization to build the Institute's capacity and infrastructure and expand the provision of direct services to reunite fathers and families. As a Congressional setaside, this one-year project is being funded noncompetitively. The Institute has community-based service centers in several states and has successfully served so far more than 7000 fathers and their families. The cost of this one-year project is $500,000.

FOR FURTHER INFORMATION CONTACT: K. A. Jagannathan, Administration for Children and Families, Office of Planning, Research and Evaluation, 370 L'Enfant Promenade, SW., Washington, DC 20447, Phone: 202-205-4829.

Dated: May 18, 2001.
Howard Rolston,
Director, Office of Planning, Research and Evaluation.

[FR Doc. 01-13143 Filed 5-23-01; 8:45 am]

BILLING CODE 4184-01-M